DEPARTMENT OF AGRICULTURE

Forest Service

Western Washington Cascades Provincial Interagency Executive Committee (PIEC) Advisory Committee

AGENCY: Forest Service, USDA.

ACTION: Notice of Meeting.

SUMMARY: The Western Washington Cascades Provincial Interagency Executive Committee Advisory Committee (Provincial Advisory Committee) will meet on Tuesday, May 21, 2002, at the Mt. Baker-Snoqualmine National Forest Headquarters, 21905 64th Avenue West, in Mountlake Terrace, WA.

The meeting will begin at 9 a.m. and continue until about 3 p.m. Agenda items to be covered include: (1) Review of the draft Finney Adaptive Management Area Plan, (2) Forest Vegetative Management, (3) Forest Monitoring and Accomplishment Reporting, and (4) an update on Forest issues. All Western Washington Cascades Provincial Advisory Committee meetings are open to the public. Interested citizens are encouraged to attend.

The Provincial Advisory Committee provided advice regarding ecosystem management for federal lands within the Western Washington Cascades Province, as well as advice and recommendations to promote better integration of forest management activities among federal and non-federal entities. The Advisory Committee is a key element of implementation of the Northwest Forest Plan.

FOR FURTHER INFORMATION CONTACT: Direct questions regarding this meeting to Penny Sundblad, Province Liaison, USDA Forest Service, Mt. Baker-Snoqualmine National Forest, 810 State Route 20, Sedro Woolley, Washington 98284 (360-856-5700, Extension 321).

Dated: April 23, 2002.
John Phipps,
Acting Designated Federal Official.

[FR Doc. 02-11325 Filed 5-7-02; 8:45 am]

BILLING CODE 3410-11-M